FEDERAL COMMUNICATIONS COMMISSION

Notice of Public Information Collection(s) Being Reviewed by the Federal Communications Commission

November 20, 2003.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 31, 2003. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street SW., Washington DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-0853.

Title: Receipt of Service Confirmation Form; Certification by Administrative Authority to Billed Entity of Compliance with Children's Internet Protection Act (CIPA)—Universal Service for Schools and Libraries; Certifications for Libraries Unwilling to Make a CIPA Certification for 2003.

Form Nos.: FCC Forms 479, 486 and 486-T.

Type of Review: Revision of a currently approved collection.

Respondents: Business or other for-profit and not-for-profit institutions.

Number of Respondents: 40,000.

Estimated Time Per Response: 1.5 hours.

Frequency of Response: Annual reporting requirement and third party disclosure requirement.

Total Annual Burden: 75,000 hours.

Total Annual Cost: N/A.

Needs and Uses: Following a district court decision that portions of CIPA were unconstitutional, the Commission modified FCC Forms 479 and 486 to remove certain language from the certifications for libraries. The Supreme Court reversed the district court decision and the Commission must now revise the form to enable libraries to certify their compliance with CIPA. The Commission has created a new FCC Form 486-T, a one-page form, to be completed by libraries that do not intend to comply with CIPA, but wish to receive support for the month and half of Funding Year 2003 during which CIPA was not enforced against libraries. FCC Form 486-T will not affect the burden or the number of respondents because respondents will file either the FCC Form 486 or the FCC Form 486-T. FCC Form 486-T will only be valid for Funding Year 2003.

Federal Communications Commission.
Marlene H. Dortch,
Secretary.

[FR Doc. 03-29758 Filed 11-28-03; 8:45 am]

BILLING CODE 6712-01-P